Title 3—

The President

Proclamation 8099 of January 11, 2007

Martin Luther King, Jr., Federal Holiday, 2007

By the President of the United States of America

A Proclamation

On the Martin Luther King, Jr., Federal Holiday, Americans honor the memory of a man who stirred the conscience of a Nation. We also recommit ourselves to the dream to which Dr. King devoted his life—an America where the dignity of every person is respected; where people are judged not by the color of their skin, but by the content of their character; and where the hope of a better tomorrow is in every neighborhood.

When Martin Luther King, Jr., came to our Nation's Capital in the summer of 1963, he came to inspire America and to call on our citizens to live up to the principles of our founding. His dream spread a message of hope, justice, and brotherhood that took hold in the hearts of men and women across our great land, and it continues to speak to millions here at home and around the world.

We honor Martin Luther King, Jr., and remember his strength of character and his leadership. We also remember the work that still remains. America has come a long way since Dr. King's time, yet our journey to justice is not complete. There is still a need for all Americans to hear the power and hope of Dr. King's enduring words so that we can hasten the day when his dream is made real. Last year, I was proud to sign the “Fannie Lou Hamer, Rosa Parks, and Coretta Scott King Voting Rights Act Reauthorization and Amendments Act of 2006.” This Act renewed the 1965 bill that reaffirmed our belief that all men are created equal, broke the segregationist lock on the ballot box, and helped bring an excluded community into the center of American democracy. Our Nation will continue to build on the legal equality championed by Dr. King and all the heroes of the civil rights movement, and we will continue our work to protect the promise of our Declaration and guarantee the rights of every citizen.

As we observe Dr. King's birthday, let us honor his legacy and go forward with confidence as a Nation united, committed to destroying discrimination, and dedicated to extending the full blessings of liberty and opportunity to all Americans.

NOW, THEREFORE, I, GEORGE W. BUSH, President of the United States of America, by virtue of the authority vested in me by the Constitution and laws of the United States, do hereby proclaim Monday, January 15, 2007, as the Martin Luther King, Jr., Federal Holiday. I encourage all Americans to observe this special day with appropriate civic, community, and service programs and activities in honor of Dr. King's life and legacy.

IN WITNESS WHEREOF, I have hereunto set my hand this eleventh day of January, in the year of our Lord two thousand seven, and of the Independence of the United States of America the two hundred and thirty-first.

[FR Doc. 07-160

Filed 1-12-07; 11:33 am]

Billing code 3195-01-P